DEPARTMENT OF LABOR

Employment and Training Administration

[TA-W-52,873]

Progress Casting Group, Inc., Plymouth, MN; Notice of Termination of Investigation

Pursuant to Section 221 of the Trade Act of 1974, as amended, an investigation was initiated on September 17, 2003 in response to a worker petition filed by a company official on behalf of workers at Progress Casting Group, Inc., Plymouth, Minnesota.

The petitioner has requested that the petition be withdrawn. Consequently, the investigation has been terminated.

Signed at Washington, DC this 21st day of October, 2003.
Richard Church,
Certifying Officer, Division of Trade Adjustment Assistance.

[FR Doc. 03-29274 Filed 11-21-03; 8:45 am]

BILLING CODE 4510-30-P